FEDERAL RESERVE SYSTEM

Agency Information Collection Activities: Announcement of Board Approval Under Delegated Authority and Submission to OMB

AGENCY: Board of Governors of the Federal Reserve System

SUMMARY: Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Acting Federal Reserve Clearance Officer - Michelle Long, Division of Research and Statistics, Board of Governors of the Federal Reserve System, Washington, DC 20551 (202-452-3829).

OMB Desk Officer - Mark Menchik, Office of Information and Regulatory Affairs, Office of Management and Budget, New Executive Office Building, Room 10235, Washington, DC 20503.

SUPPLEMENTARY INFORMATION:

Final approval under OMB delegated authority of the extension for three years, without revision, of the following reports:

1. Report title: Notice of Proposed Stock Redemption

Agency form number: FR 4008

OMB Control number: 7100-0131

Frequency: On occasion

Reporters: Bank holding companies

Annual reporting hours: 171 hours

Estimated average hours per response: 15.5 hours

Number of respondents: 11

General description of report: This information collection is mandatory (12 U.S.C. § 1844(c)) and is generally not given confidential treatment.

Abstract: The Federal Reserve requires certain bank holding companies (BHCs), based on an amount of redemptions over a defined period, to give written notice to the appropriate Reserve Bank before purchasing or redeeming their equity securities. There is no formal reporting form. The Federal Reserve uses the information to fulfill its statutory obligation to supervise BHCs.

2. Report title: Filings Related to the Gramm-Leach-Bliley Act

Agency form number: FR 4010, FR 4011, FR 4012, FR 4017, FR 4019

OMB Control number: 7100-0292

Frequency: On occasion

Reporters: Bank holding companies, including financial holding companies foreign banking organizations, and state member banks

Annual reporting hours: 3,142 hours

Estimated average hours per response: FR 4010: BHC 3 hours, FBOs 3.5 hours; FR 4011: Activities financial in nature, or incidental or complementary to financial activities 10 hours, Advisory opinions 10 hours; FR 4012: BHCs decertified as FHCs 1 hour, FHCs back into compliance 10 hours; FR 4017: SMBs 4 hours; FR 4019: Regulatory relief requests 1 hour, Portfolio company notification 1 hour; Recordkeeping: 50 hours

Number of respondents: FR 4010: BHC 58, FBOs 5; FR 4011: Activities financial in nature, or incidental or complementary to financial activities 2, Advisory opinions 2; FR 4012: BHCs decertified as FHCs 13, FHCs back into compliance 27; FR 4017: SMBs 5; FR 4019: Regulatory relief requests 5, Portfolio company notification 5; Recordkeeping: 52

General description of report: These collections of information are required to obtain a benefit and are authorized under:

FR 4010: Section 4(l)(1)(C) of the BHC Act (12 U.S.C. § 1843(1)(l)(C)), section 8(a) of the International Banking Act (12 U.S.C. § 3106(a)), and sections 225.82 and 225.91 of Regulation Y (12 C.F.R. 225.82 and 225.91);

FR 4011: Section 4(k) of the BHC Act (12 U.S.C. § 1843(k)) and sections 225.88(b) and (e) and 225.89 of Regulation Y (12 C.F.R. 225.88(b) and (e) and 225.89);

FR 4012: Section 4(m) of the BHC Act (12 U.S.C. § 1843(m)), section 8(a) of the International Banking Act (12 U.S.C. § 3106(a)), and sections 225.83 and 225.93 of Regulation Y (12 C.F.R. 225.83 and 225.93);

FR 4017: Section 9 of the Federal Reserve Act (12 U.S.C. § 335) and section 208.76 of Regulation H (12 C.F.R. 208.76);

FR 4019: Section 4(k)(7) of the BHC Act (12 U.S.C. § 1843(k)(7)) and sections 225.171(e)(3), 225.172(b)(4), and 225.173(c)(2) of Regulation Y (12 C.F.R. 225.171(e)(3), 225.172(b)(4), and 225.173(c)(2));

Recordkeeping: Section 4(k)(7) of the BHC Act (12 U.S.C. § 1843(k)(7)) and sections 225.171(e)(4) and 225.175 of Regulation Y (12 C.F.R. 225.171(e)(4) and 225.171).

A company may request confidentiality for the information contained in these information collections pursuant to section (b)(4) and (b)(6) of the Freedom of Information Act (5 U.S.C. 552 (b)(4) and (b)(6)).

Abstract: Each BHC or FBO seeking FHC status must file the FR 4010 declaration, which includes information needed to verify eligibility for FHC status. By filing the FR 4011 a requestor may ask the Board to determine that an activity is financial in nature, to issue an advisory opinion that an activity is within the scope of an activity previously determined to be financial in nature, or to approve engagement in an activity complementary to a financial activity. Any FHC ceasing to meet capital or managerial prerequisites for FHC status must notify the Board, by filing the FR 4012 notice, of the deficiency, and often must submit plans to the Board to cure the deficiency. Any SMB seeking to establish a financial subsidiary must seek the Board's prior approval by submitting the FR 4017 requirements. Any FHC seeking to extend the 10-year holding period for a merchant banking investment must submit the FR 4019 requirements to apply for the Board's prior approval, and a FHC also must notify the Board if it routinely manages or operates a portfolio company for more than nine months. All FHCs engaging in merchant banking activities must keep records of those activities, and make them available to examiners. There are no formal reporting forms for these event-generated filings.

3. Report title: Notice Claiming Status as an Exempt Transfer Agent

Agency form number: FR 4013

OMB Control number: 7100-0137

Frequency: On occasion

Reporters: Banks, bank holding companies (BHCs), and certain trust companies

Annual reporting hours: 6 hours

Estimated average hours per response: 2 hours

Number of respondents: 3

General description of report: This information collection is voluntary (15 U.S.C. 78q-1(c)(1)) and the Federal Reserve is authorized to collect this data (15 U.S.C. 78c (a)(34)(B)(ii)). The data collected are not given confidential treatment.

Abstract: Banks, BHCs, and trust companies subject to the Federal Reserve's supervision that are low-volume transfer agents voluntarily file the notice on occasion with the Federal Reserve. Transfer agents are institutions that provide securities transfer, registration, monitoring, and other specified services on behalf of securities issuers. The purpose of the notice, which is effective until the agent withdraws it, is to claim exemption from certain rules and regulations of the Securities and Exchange Commission (SEC). The Federal Reserve uses the notices for supervisory purposes because the SEC has assigned to the Federal Reserve responsibility for collecting the notices and verifying their accuracy through examinations of the respondents. The notice is made by letter; there is no reporting form.

4. Report title: Notice of Branch Closure

Agency form number: 4031

OMB control number: 7100-0264

Frequency: On occasion

Reporters: State member banks

Annual reporting hours: 783

Estimated average hours per response: 2 hours for reporting requirements; 1 hour for disclosure requirements; 8 hours for recordkeeping requirements

Number of respondents: 239

General description of report: This information collection is mandatory (12 U.S.C. 1831r-l(a)(1)) and may be given confidential treatment upon request (5 U.S.C. 552(b)(4)).

Abstract: The mandatory reporting, recordkeeping, and disclosure requirements regarding the closing of any branch of an insured depository institution are imposed by section 228 of the Federal Deposit Insurance Corporation Improvement Act of 1991. There is no reporting form associated with the reporting portion of this information collection; state member banks notify the Federal Reserve by letter prior to closing a branch. The Federal Reserve uses the information to fulfill its statutory obligation to supervise state member banks.

5. Report title: Reports Related to Securities of State Member Banks as Required by Regulation H

Agency form number: Reg H-1

OMB Control number: 7100-0091

Frequency: Quarterly and on occasion

Reporters: State member banks

Annual reporting hours: 1,390 hours

Estimated average hours per response: 5.11 hours

Number of respondents: 16

General description of report: This information collection is mandatory (15 U.S.C. 781(i)) and is not given confidential treatment.

Abstract: The Federal Reserve's Regulation H requires certain state member banks to submit information relating to their securities to the Federal Reserve on the same forms that bank holding companies and nonbank entities use to submit similar information to the Securities and Exchange Commission. The information is primarily used for public disclosure and is available to the public upon request.

Final approval under OMB delegated authority of the extension for three years, with revision, of the following report:

1. Report title: Consolidated Report of Condition and Income for Edge and Agreement Corporations

Agency form number: FR 2886b

OMB control number: 7100-0086

Frequency: Quarterly

Reporters: Edge and agreement corporations

Annual reporting hours: 3,173 hours

Estimated average hours per response: 14.7 banking corporations, 8.5 investment corporations

Number of respondents: 21 banking corporations, 57 investment corporations

General description of report: This information collection is mandatory (12 U.S.C. §§ 602 and 625). For Edge corporations engaged in banking, information collected on schedules E and L are held confidential pursuant to Section (b)(4) of the Freedom of Information Act (5 U.S.C. § 552(b)(4)). For investment Edge corporations only information collected on Schedule E is given confidential treatment pursuant to Section (b)(4) of the Freedom of Information Act (5 U.S.C. § 552(b)(4)).

Abstract: This report collects a balance sheet, income statement, and ten supporting schedules, and it parallels the commercial bank Reports of Condition and Income (Call Report) (FFIEC 031; OMB No. 7100-0036). The Federal Reserve uses the data collected on the FR 2886b to supervise Edge corporations, identify present and potential problems, and monitor and develop a better understanding of activities within the industry.

Current action: The Federal Reserve has approved the proposed changes to the FR 2886b. The proposed revisions included aligning FR 2886b schedule titles, identifiers, and ordering of line items with the Call Report, effective with the September 30, 2004 report date. In addition, the Federal Reserve proposed to modify the FR 2886b report consistent with any applicable revisions to the Call Report, ultimately adopted by the FFIEC for implementation in March 2005.

Board of Governors of the Federal Reserve System, June 21, 2004.
Jennifer J. Johnson
Secretary of the Board.

[FR Doc. 04-14417 Filed 6-24-04; 8:45 am]

BILLING CODE 6210-01-S